SMALL BUSINESS ADMINISTRATION

[Disaster Declaration #13288 and #13289]

California Disaster #CA-00190

AGENCY: U.S. Small Business Administration.

ACTION: Amendment 1.

SUMMARY: This is an amendment of the Administrative declaration of a disaster for the State of California dated 09/14/2012.

Incident: Brawley Earthquakes.

Incident Period: 08/26/2012 through 09/09/2012.

Effective Date: 10/03/2012.

Physical Loan Application Deadline Date: 11/13/2012.

Economic Injury (EIDL) Loan Application Deadline Date: 06/14/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Administrator's disaster declaration for the State of California, dated 09/14/2012 I hereby amended to establish the incident period for this disaster as beginning on 08/26/2012 and continuing through 09/09/2012.

All other information in the original declaration remains unchanged.

(Catalog of Federal Domestic Assistance Numbers 59002 and 59008)

Dated: October 3, 2012.
Karen G. Mills,
Administrator.

[FR Doc. 2012-24950 Filed 10-10-12; 8:45 am]

BILLING CODE 8025-01-P